DEPARTMENT OF VETERANS AFFAIRS

[OMB Control No. 2900-0098]

Agency Information Collection Activities Under OMB Review

AGENCY: Veterans Benefits Administration, Department of Veterans Affairs.

ACTION: Notice.

SUMMARY: In compliance with the Paperwork Reduction Act (PRA) of 1995 (44 U.S.C. 3501-21), this notice announces that the Veterans Benefits Administration (VBA), Department of Veterans Affairs, has submitted the collection of information abstracted below to the Office of Management and Budget (OMB) for review and comment. The PRA submission describes the nature of the information collection and its expected cost and burden and includes the actual data collection instrument.

DATES: Comments must be submitted on or before March 10, 2006.

FOR FURTHER INFORMATION CONTACT: Denise McLamb, Records Management Service (005E3), Department of Veterans Affairs, 810 Vermont Avenue, NW., Washington, DC 20420, (202) 565-8374, fax (202) 565-6950 or e-mail denise.mclamb@mail.va.gov. Please refer to “OMB Control No. 2900-0098.” Send comments and recommendations concerning any aspect of the information collection to VA's OMB Desk Officer, OMB Human Resources and Housing Branch, New Executive Office Building, Room 10235, Washington, DC 20503 (202) 395-7316. Please refer to “OMB Control No. 2900-0098” in any correspondence.

SUPPLEMENTARY INFORMATION: Title: Application for Survivors' and Dependents' Educational Assistance (Under Provisions of Chapter 35, Title 38, U.S.C.), VA Form 22-5490.

OMB Control Number: 2900-0098.

Type of Review: Revision of a currently approved collection.

Abstract: VA Form 22-5490 is completed by a veteran's spouse, surviving spouse, or children to apply for Survivors' and Dependents' Educational Assistance (DEA) benefits. DEA benefits are payable if the veteran is permanently and totaled disabled, died as a result of a service-connected disability, missing in action, capture or detained for more than 90 days. VA uses the data collected to determine the claimant's eligibility to DEA benefits.

An agency may not conduct or sponsor, and a person is not required to respond to a collection of information unless it displays a currently valid OMB control number. The Federal Register Notice with a 60-day comment period soliciting comments on this collection of information was published on March 06, 2006 at pages 169-170.

Affected Public: Individuals or households.

Estimated Annual Burden: 28,000 hours.

a. Electronically—4,000 hours.

b. Paper Copy—24,000 hours.

Estimated Average Burden Per Respondent:

a. Electronically—30 minutes.

b. Paper Copy—45 minutes.

Frequency of Response: Once.

Estimated Number of Respondents: 40,000.

a. Electronically—32,000.

b. Paper Copy—8,000.

Dated: January 26, 2006.
By direction of the Secretary.
Denise McLamb,
Program Analyst, Records Management Service.

[FR Doc. E6-1724 Filed 2-7-06; 8:45 am]

BILLING CODE 8320-01-P